DEPARTMENT OF AGRICULTURE

Rural Utilities Service

Notice of Solicitation of Applications (NOSA); Correction

AGENCY: Rural Utilities Service, USDA.

ACTION: Notice; correction.

SUMMARY: The Rural Utilities Service (RUS) published in the Federal Register, on March 9, 2016 a Notice of Solicitation of Applications (NOSA), announcing the Household Water Well System Grant Program application window for fiscal year (FY) 2016. Inadvertently, an incorrect web link was included in the NOSA that did not permit access to the intended Web site. This document removes the incorrect web reference and replaces it with the correct version.

DATES: Effective on March 16, 2016.

FOR FURTHER INFORMATION CONTACT: Derek Jones, Community Programs Specialist, Water and Environmental Programs, Rural Utilities Service, Rural Development, U.S. Department of Agriculture, STOP 1570, Room 2234-S, 1400 Independence Avenue SW., Washington, DC 20250-1570, Telephone: (202) 720-9640, fax: (202) 690-0649, email: derek.jones@wdc.usda.gov.

SUPPLEMENTARY INFORMATION: The Rural Utilities Service (RUS) published in the Federal Register on March 9, 2016, at 81 FR 12451, a Notice of Solicitation of Applications (NOSA), for its Household Water Well System Grant Program application window for fiscal year (FY) 2016. Inadvertently, an incorrect web link was included in the NOSA that did not permit access to the intended Web site. This document removes all references to the incorrect web link published on March 9, 2016 and replaces it with the correct web reference.

In the Notice of Solicitation of Applications (NOSA) FR Doc. 2016-05170 published on March 9, 2016, at 81 FR 12451, make the following correction. Remove “rurdev.usda.gov/UWP-individualwellsystems” and add in its place “http://www.rd.usda.gov/programs-services/household-water-well-system-grants” on the following pages:

Page 12451, second column, ADDRESSES: 1. Electronic copies: Page 12453, second column, IV. Application and Submission Information, A. Where To Get Application Information, 1. Internet for electronic copies; Page 12454, column one, (14) Assurances and certifications of compliance with other Federal Statutes; and, Page 12457, column 2, VII Agency Contacts, A. Web site.

Dated: March 10, 2016.
Brandon McBride,
Administrator, Rural Utilities Service.

[FR Doc. 2016-05926 Filed 3-15-16; 8:45 am]

BILLING CODE P